DEPARTMENT OF ENERGY

Notice of 229 Boundary Revision for the Oak Ridge National Laboratory

AGENCY: Department of Energy (DOE).

ACTION: Notice of 229 Boundary Revision for the Oak Ridge National Laboratory.

SUMMARY: Notice is hereby given that the U.S. Department of Energy, pursuant to section 229 of the Atomic Energy Act of 1954, as amended, as implemented by 10 CFR part 860 published in the Federal Register on August 26, 1963 (28 FR 8400), prohibits the unauthorized entry, as provided in 10 CFR 860.3 and the unauthorized introduction of weapons or dangerous materials, as provided in 10 CFR 860.4, into or upon the following described facilities of the Oak Ridge National Laboratory of the United States Department of Energy. The following amendments are made:

The U.S. Department of Energy installation known as the Oak Ridge National Laboratory 7900 Area, occupied by the High Flux Isotope Reactor and associated facilities, is located in the Second Civil District of Roane County, Tennessee, within the corporate limits of the city of Oak Ridge. The facility contains approximately 40 acres and is located on the south side of Melton Valley Drive, approximately 0.7 miles west of the intersection of Melton Valley Drive and Melton Valley Access Road. This intersection is approximately 0.6 miles south of the intersection of Bethel Valley Road and Melton Valley Access Road. The 229 Boundary of this facility is indicated by a chain link fence which surrounds the facility.

The U.S. Department of Energy installation known as the National U-233 Repository (Building 3019) is located in the Second Civil District of Roane County, Tennessee, within the corporate limits of the city of Oak Ridge. The physical facility contains approximately 2.5 acres including approximately 40,000 square feet of floor space within the security area boundary. This complex is located south of Bethel Valley Road, approximately 0.25 miles east of the intersection of Bethel Valley Road and First Street. The 229 Boundary for this facility is indicated by a chain link fence which surrounds the facility.

FOR FURTHER INFORMATION CONTACT: Ms. Cindy B. Hunter, Certified Realty Specialist, DOE Oak Ridge Office, Post Office Box 2001, Oak Ridge, Tennessee 37831, Telephone: (865) 576-4431, Facsimile: (865) 576-9204.

SUPPLEMENTARY INFORMATION: This security boundary is designated pursuant to section 229 of the Atomic Energy Act of 1954. This revised boundary supersedes and/or re-describes the entries previously contained in the Federal Register notice published October 19, 1965, at 30 FR 13285; amended on January 11, 1973, at 38 FR 1301; and amended on March 6, 1974, at 39 FR 8652 for Oak Ridge National Laboratory.

Issued in Oak Ridge, Tennessee, on October 29, 2007.
Cindy B. Hunter,
DOE ORO Realty Officer.

[FR Doc. E7-22109 Filed 11-9-07; 8:45 am]

BILLING CODE 6450-01-P